DEPARTMENT OF LABOR

Employment and Training Administration

[TA-W-51,609]

Manpower International Leased Workers Employed at Motorola, Inc., iDen Subscriber Division, Plantation, FL; Notice of Termination of Investigation

Pursuant to section 221 of the Trade Act of 1974, as amended, an investigation was initiated on April 25, 2003 in response to a worker petition filed by a state agency representative on behalf of workers at Manpower International. Leased workers at Motorola, Inc., iDen Subscriber Division, Plantation, Florida is the subject of this investigation.

The petitioning group of workers is covered by an active certification issued on July 23, 2001 which remains in effect (TA-W-39,588). That certification was amended on May 14, 2003 to include the current petitioners. Consequently, further investigation in this case would serve no purpose, and the investigation has been terminated.

Signed at Washington, DC, this 14th day of May, 2003.
Richard Church,
Certifying Officer, Division of Trade Adjustment Assistance.

[FR Doc. 03-13409 Filed 5-28-03; 8:45 am]

BILLING CODE 4510-30-P